DEPARTMENT OF AGRICULTURE

Forest Service

Lower Big Creek, Kootenai National Forest, Lincoln County, MT

AGENCY: Forest Service, USDA.

ACTION: Notice of intent to prepare an environmental impact statement.

SUMMARY: The USDA—Forest Service will prepare an Environmental Impact Statement to disclose the environmental effects of timber harvest, prescribed burning, and road management in the Lower Big Creek Decision Area on the Rexford Ranger District of the Kootenai National Forest. The Decision Area is located approximately 15 miles southwest of Eureka, Montana.

DATES: Written comments and suggestions should be postmarked or received within 30 days following publication of this notice.

ADDRESSES: Written comments and suggestions concerning the scope of the analysis should be sent to Glen M. McNitt, District Ranger, Rexford Ranger District, 1299 U.S. Highway 93 N, Eureka, MT 59917.

FOR FURTHER INFORMATION CONTACT: Chris Fox, Interdisciplinary Team Leader, Rexford Ranger District, Phone: (406) 296-2536.

SUPPLEMENTARY INFORMATION: The Decision Area contains approximately 64,000 acres of land within the Kootenai National Forest. Proposed activities within the Decision Area include all or portions of the following areas: T34-35N, R29-30W, PMM, Lincoln County, Montana.

All proposed activities are outside the boundaries of any roadless area or any areas considered for inclusion to the National Wilderness System as recommended by the Kootenai National Forest Plan or by any past or present legislative wilderness proposals, with the exception of approximately 840 acres of underburning-only in the Big Creek Inventoried Roadless Area.

Purpose and Need: The purpose and need for the project is to: (1) Reduce fuel accumulations to decrease the likelihood that fires would become large stand-replacing wildfires; (2) Restore characteristic vegetation patterns (patch sizes and stand structure) on the landscape; (3) Provide a transportation system that increases security for grizzly bears, reduces impacts to aquatic resources, improves riparian wildlife habitat, and insures economical and safe access; and (4) Respond to the social and economic needs of the public.

Proposed Activities: The Forest Service proposes to use regeneration harvest on approximately 2,650 acres, shelterwood-commercial thin harvest on approximately 350 acres, commercial thinning on approximately 560 acres, and roadside salvage and post and pole harvest on approximately 75 acres.

The Proposed Action would result in nineteen openings over 40 acres, ranging from 98 to 530 acres. A 60-day public review period, and approval by the Regional Forester for exceeding the 40 acre limitation for regeneration harvest, would be required prior to the signing of the Record of Decision. This 60-day period is initiated with this Notice of Intent.

The Proposed Action includes approximately 3,625 acres of prescribed burning in association with timber harvest, and approximately 1,100 acres of prescribed burning without timber harvest.

The Proposed Action also includes maintenance activities on portions of approximately 109 miles of road to meet Best Management Practices; decommissioning approximately 25 miles of closed roads; placing 14 miles of roads (which are currently restricted year-long to motor vehicles) in storage; and reconstructing approximately 1.7 miles of existing road.

The Proposed Action includes precommercial thinning of sapling-sized trees on approximately 300 acres within managed plantations and natural stands that have regenerated after wildfire. Precommercial thinning would not occur in lynx habitat.

Forest Plan Amendments: The Proposed Action includes two project-specific Forest Plan amendments necessary to meet the project's objectives:

An amendment to allow harvest in 15 units adjacent to existing openings in Management Area (MA) 12 (Big Game Summer Range). The amendment would be needed to suspend Wildlife and Fish Standard #7 and Timber Standard #2 for this area. These standards state that movement corridors and adjacent hiding cover be retained. The resulting opening sizes more closely correlate to natural disturbance patterns. Snags and down woody material would be left to provide wildlife habitat and maintain soil productivity.

An amendment to allow MA 12 open road density to be managed at 1.18 miles/square mile during project implementation. The amendment would needed to suspend Facilities Standard #3, which states that open road density should be maintained at 0.75 miles/square mile. The open road density would return to 0.74 following project completion.

Range of Alternatives: The Forest Service will consider a range of alternatives. One of these will be the “no action” alternative, in which none of the proposed activities will be implemented. Additional alternatives will be considered to achieve the project's purpose and need for action, and to respond to specific resource issues and public concerns.

Public Involvement and Scoping: In November 2002, efforts were made to involve the public in considering management opportunities within the Decision Area. A scoping package was mailed for public review on November 5, 2002. A field trip was held on November 15, 2002; an open house was held on November 21, 2002. Comments received prior to this notice will be included in the documentation for the EIS.

Estimated Dates for Filing: While public participation in this analysis is welcome at any time, comments received within 30 days of the publication of this notice will be especially useful in the preparation of the Draft EIS (DEIS). The DEIS is expected to be filed with the Environmental Protection Agency (EPA) and to be available for public review by May 2003. At that time EPA will publish a Notice of Availability (NOA) of the DEIS in the Federal Register. The comment period on the DEIS will be 45 days from the date the EPA publishes the NOA in the Federal Register. It is very important that those interested in the management of this area participate at that time.

The final EIS (FEIS) is scheduled to be completed by August 2003. In the FEIS, the Forest Service is required to respond to comments and responses received during the comment period that pertain to the environmental consequences discussed in the DEIS, and applicable laws, regulations, and policies considered in making a decision regarding the proposal.

Reviewer's Obligations: The Forest Service believes it is important to give reviewers notice of several court rulings related to public participation in the environmental review process. First, reviewers of DEIS' must structure their participation in the environmental review of the proposal so that it is meaningful and alerts an agency to the reviewer's position and contentions. Vermont Yankee Nuclear Power Corp. v. NRDC, 435 U.S. 519, 553 (1978). Also, environmental objections that could be raised at the draft environmental impact statement stage may be waived or dismissed by the courts. City of Angoon v. Hodel, 803, F.2d 1016, 1022 9th Cir. 1986) and Wisconsin Heritages, Inc. v. Harris, 490 F. Supp. 1334, 1338 (E.D. Wis. 1980). Because of these court rulings, it is very important that those interested in this Proposed Action participate by the close DEIS 45 day comment period so that substantive comments and objections are made available to the Forest Service at a time when it can meaningfully consider and respond to them in the FEIS.

To be most helpful, comments on the DEIS should be as specific as possible, and may address the adequacy of the statement or the merit of the alternatives discussed. Reviewers may wish to refer to the Council on Environmental Quality regulations (40 CFR 1503.3) for implementing the procedural provisions of the National Environmental Policy Act.

Responsible Official: As the Forest Supervisor of the Kootenai National Forest, 1101 U.S. Highway 2 West, Libby, MT 59923, I am the Responsible Official. As the Responsible Official, I will decide if the proposed project will be implemented. I will document the decision and reasons for the decision in the Record of Decision. I have delegated the responsibility for preparing the DEIS and FEIS to Glen M. McNitt, District Ranger, Rexford Ranger District.

Dated: April 3, 2003.
Bob Castaneda,
Forest Supervisor, Kootenai National Forest.

[FR Doc. 03-8988 Filed 4-11-03; 8:45 am]

BILLING CODE 3410-11-M